DEPARTMENT OF TRANSPORTATION

National Highway Traffic Safety Administration

[Docket No. NHTSA-2009-0171]

2010-2015 Strategic Planning

AGENCY: National Highway Traffic Safety Administration (NHTSA), DOT.

ACTION: Notice and request for comment.

SUMMARY: The National Highway Traffic Safety Administration (NHTSA) is currently seeking public comment on emerging or potential traffic safety problems. Public feedback will assist the agency in preparing to meet the challenges it faces in the next 5 years on improving motor vehicle and traffic safety in the United States. This foundational work will assist the agency in shaping its 2010-2015 strategic plan.

This notice invites comments, suggestions and recommendations from all individuals and organizations that have an interest in motor vehicle and highway safety, consumer programs (e.g., fuel economy, vehicle theft, odometer fraud, tire performance) administered by the agency, and/or other NHTSA activities. Respondents can choose to answer any number of questions proposed in this notice. The agency values any comments received and would also like input on the strategic planning process in general. Please include any elements believed important for NHTSA to consider in shaping its vision and building its 2010-2015 strategic plan.

DATES: Comments must be received no later than January 4, 2010.

ADDRESSES: You may submit comments identified by Long Range Strategic Planning DOT DMS Docket Number [XXX] by any of the following methods:

• Federal eRulemaking Portal: Go to http://www.regulations.gov. Follow the online instructions for submitting comments.

• Fax: 1-202-493-2251.

• Mail: Docket Management Facility; U.S. Department of Transportation, 1200 New Jersey Avenue, SE., West Building Ground Floor, Room W12-140, Washington, DC 20590.

• Hand Delivery or Courier: West Building Ground Floor, Room W12-140, 1200 New Jersey Avenue, SE., Washington, DC, between 9 a.m. and 5 p.m., Monday through Friday, except Federal Holidays. Telephone: 1-800-647-5527.

Instructions: All submissions must include the agency name and docket number. It is suggested that comment submissions be limited to ten (10) pages with unlimited attachments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70, pp. 19477-78) or you may visit http://www.dot.gov/privacy.html.

Docket: For access to the docket to read background documents or comments received, go to http://regulations.gov and follow the online instructions, or visit the Docket Management Facility at the street address listed above.

FOR FURTHER INFORMATION CONTACT: Dee Williams, Acting Director, Office of Strategic Planning, National Highway Traffic Safety Administration, Room W40-311, 1200 New Jersey Avenue, SE., Washington, DC 20590. Telephone: 202-366-3503. E-mail: dee.williams@dot.gov.

SUPPLEMENTARY INFORMATION: NHTSA was established as the successor to the National Highway Safety Bureau in 1970, to carry out safety programs under the National Traffic and Motor Vehicle Safety Act of 1966 (Chapter 301 of Title 49, United States Code) and the Highway Safety Act of 1966 (Chapter 4 of Title 23, United States Code). The agency also administers consumer programs established by the Motor Vehicle Information and Cost Saving Act of 1972 (Part C of Subtitle VI (Chapters 321, 323, 325, 327, 329 and 331) of Title 49, United States Code).

NHTSA's mission is to save lives, prevent injuries, and reduce traffic-related health care and other economic costs due to road traffic crashes through education, research, safety standards, and enforcement activity. Motor vehicle crashes are responsible for 95 percent of all transportation-related fatalities and are the leading cause of death for people in the United States of every age from age 3 through 34 (based on 2006 data).

The economic costs associated with these crashes also seriously impact the Nation's fiscal health. The cost to our economy of all motor vehicle crashes was approximately $230 billion in 2000, or 2.3 percent of the U.S. gross domestic product. Alcohol-involved crashes cost over $50 billion, accounting for 22 percent of all crash costs. In 2003, failure to wear safety belts cost $18 billion. Twenty-six percent of overall crash costs are paid by those individuals directly involved in these crashes. The remaining 74 percent of overall crash costs is paid by the public through insurance premiums, taxes, and higher health care costs.

In order to address these public health issues and economic costs of highway crashes, the agency seeks to improve public health by helping to make highway travel safer. The agency develops, promotes and implements educational, regulatory, enforcement and emergency medical service programs aimed at ending preventable tragedies and reducing the economic costs associated with motor vehicle use and highway travel. A multi-disciplinary approach that draws upon diverse fields such as epidemiology, engineering, biomechanics, emergency medicine, the social sciences, human factors, economics, education, law enforcement, and communication science to address one of the most complex and challenging public health problems facing our society.

NHTSA is a leader in collecting and analyzing motor vehicle crash data, in conducting research, and in developing countermeasures designed to prevent and mitigate vehicle crashes, thereby reducing associated fatalities and traumatic injury. The agency improves traffic safety through its regulation and enforcement of motor vehicle and motor vehicle equipment; develops evidence-based education and enforcement programs and promotes their use by States, localities, and other safety partners; sponsors critical research; conducts innovative projects to improve traffic and motor vehicle safety; provides leadership in understanding and assessing the safety impact of advanced technologies; and, works to develop harmonized international safety standards. All aspects of engineering, education, enforcement and evaluation are incorporated into programs to address the challenges of crash and injury prevention involving people, vehicles, and the roadway environment.

Over the last 43 years, the agency has had a solid record of achievement in reducing traffic crash fatalities and resulting injuries. Since 1966, the crash fatality rate has dropped from 5.5 deaths per 100 million vehicle miles of travel (VMT) to a historic low of 1.27 in 2008. While the recent reductions in total fatalities may be due in part to a decrease in vehicle miles traveled, additional factors that may be attributed to the decline include more crashworthy vehicles in the fleet, improvements in roadway infrastructure, increases in safety belt use, and decreases in impaired driving. While the reduction in the fatality rate shows progress, much work still needs to be done to reduce the number of deaths and serious injuries that take place every year on our Nation's highways. Moreover, as new technology continues to develop and evolve, it will be essential to address emerging risks in addition to seeking ways to harness the potential of technology to an even greater extent to help reduce crashes.

In an attempt to anticipate and meet the challenges on the horizon, NHTSA is embarking upon a long-range strategic planning initiative. The initiative will have two phases. Phase I begins with this solicitation of comments from individuals and public and private organizations interested in the nation's motor vehicle and highway safety programs, consumer programs (e.g., fuel economy, vehicle theft and odometer fraud, tire performance) administered by the agency, and other NHTSA activities. The information gathered during Phase I will serve as the foundation for Phase II: the development of NHTSA's Strategic Plan 2010-2015. The information and data generated from Phase I will assist the agency at shaping its future vision, program plans, and safety goals.

NHTSA requests comments, suggestions and recommendations that will assist the agency in assessing and understanding the potential effects and implications that changes in demographic, economic, environmental, institutional, and technological factors will have on motor vehicle and highway traffic safety.

The following are some of the key issues that the agency would like public comments to address. In addition to general comments, the agency seeks documents, studies, or references relevant to the issues. The agency is particularly interested in learning about emerging or potential safety problems, gaps in current strategies and approaches, and in receiving recommendations for addressing traffic safety problems effectively. While the strategic plan under development will cover 2010-2015, the agency is interested in the public's views on issues and trends beyond 2015. The public may respond to all or some of the questions below. NHTSA will consider all comments received but may not necessarily include all comments into the strategic plan due to inconsistency with NHTSA's mission, budget constraints, and data driven priority areas. Stakeholder meetings and listening sessions will be held at a later date to obtain feedback on the questions below.

A. Factors and Issues

(A1) What are critical, highway safety issues facing the nation today?

(A2) What will future key demographic and social influences be on highway safety (e.g. novice and older drivers, gender, obesity, cultural diversity, immigration, geographic distribution, alcohol and drug consumption, shifts in economic development, etc.)?

(A3) In general, how might driving behaviors change in the United States in the future? How might demographic and social influences change driving behaviors and impact highway safety?

(A4) What changes in the auto fleet, including size and mix, will impact highway safety?

(A5) What changes in commercial vehicle use will impact highway safety?

(A6) What international trends and technologies will influence future developments in American automotive industry?

(A7) What changes in energy and environmental issues will impact public policy and highway safety? How will these changes impact vehicle use?

(A8) What change in the highway or energy distribution infrastructures will either affect or be needed for improved highway safety?

(A9) What changes in auto and medical insurance might affect highway safety?

(A10) What changes in the national, State, and local economies will impact public policy and highway safety? Will these changes require modification in Federal funding programs or delivery systems for highway safety?

(A11) How might changes in vehicle theft and odometer fraud impact NHTSA's future program efforts in these areas?

(A12) What are new and emerging areas of automotive safety research (e.g., injury prevention, passive safety, active safety, advanced crash notification, etc.) that would enable NHTSA and the auto industry to improve motor vehicle safety?

(A13) What are new and emerging areas of behavioral safety research that would enable NHTSA to improve highway safety countermeasures?

(A14) What additional analytical data need to be collected with respect to motor vehicle and highway safety? How might data and information be combined for more effective and valuable results? How might these data be collected, linked, analyzed and made available in a more efficient and cost-effective manner?

(A15) What are critical data elements that NHTSA does not collect that should be collected to identify areas to target to reduce traffic fatalities and injuries?

(A16) How can crash avoidance data be gathered?

(A17) What role will public education and consumer information play in the future of highway safety? What other cost effective tools should NHTSA use to promote motor vehicle and highway safety programs?

(A18) What changes in the area of Federal, State, and local legislation are appropriate and how might that legislation affect traffic safety in the future? What changes are likely?

(A19) How might homeland security affect traffic safety in the future?

(A20) What changes are imminent in State politics, and the relationship between the States and agency? What changes would help the agency achieve its safety goals?

(A21) How will “Smart Growth” or livable community concepts impact traffic safety? What is NHTSA's role within these growing inter-disciplinary fields?

B. Technology

(B1) How will advanced vehicle technologies (i.e., crash avoidance) impact the future of motor vehicles and highway safety?

(B2) What future technologies should be researched and encouraged to enhance highway safety?

(B3) What technological changes are necessary in other modes of passenger and freight transportation to positively impact motor vehicle and highway safety?

(B4) What changes in medical technology and emergency medical services will impact motor vehicle and highway safety and health outcomes?

(B5) How can the development and implementation of crash notification technologies (i.e., automatic advanced crash notification) and crash victim triage protocols impact health outcomes related to motor vehicle crashes?

(B6) What changes do you envision in automation, information management, and workplace alternatives (e.g., telecommuting)? How will these activities impact highway safety and commuting and travel behaviors?

(B7) What changes in law enforcement practices and technologies might impact highway safety?

(B8) How will technology affect driving behavior? What issues related to vehicle/driver interaction could affect safety? What issues should NHTSA research?

C. Institutional Relationships

(C1) How do you and/or your organization (include organization's name) interact with NHTSA? Please explain the dynamics of this relationship.

(C2) How could NHTSA strengthen its relationship with your organization and with other organizations and institutions engaged in traffic safety programs?

D. NHTSA's Role and Mission

(D1) In your view, should there be major changes in NHTSA's role/mission in the future?

(D2) What are NHTSA's strengths and weaknesses?

(D3) How can NHTSA have a greater impact in the reduction of injury and loss of life on the nation's highways?

(D4) What is NHTSA doing well and not well? How can NHTSA improve the way it does business or provides customer service? Please identify possible improvements or ideas for doing better.

(D5) What should NHTSA's role in international highway safety be? How should NHTSA be involved in international global road safety efforts? What opportunities exist for NHTSA to learn from highway safety initiatives in other countries?

(D6) What mechanisms should NHTSA consider using for communication with the public?

Request for Comments

How Do I Prepare and Submit Comments?

Your comments must be written and in English. To ensure that your comments are correctly filed in the Docket, please include the Docket number of this document (2010-2015 Strategic Planning, XXXX) in your comments.

Please send two paper copies of your comments to Docket Management or submit them electronically. The mailing address is Docket Management Facility; U.S. Department of Transportation, 1200 New Jersey Avenue, SE., West Building Ground Floor, Room W12-140, Washington, DC 20590. If you submit your comments electronically, log onto the Federal eRulemaking Portal: Go to http://www.regulations.gov. Follow the online instructions for submitting comments.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, 1200 New Jersey Avenue, SE., Washington, DC 20590. Include a cover letter supplying the information specified in our confidential business information regulation (49 CFR Part 512).

In addition, send two copies from which you have deleted the claimed confidential business information to Docket Management Facility; U.S. Department of Transportation, 1200 New Jersey Avenue, SE., West Building Ground Floor, Room W12-140, Washington, DC 20590.

Will the Agency Consider Late Comments?

NHTSA will consider all comments that Docket Management receives before the close of business on the comment closing date indicated above under DATES. To the extent possible, we will also consider comments that Docket Management receives after that date.

Please note that even after the comment closing date, we will continue to file relevant information in the Docket as it becomes available. Some people may submit late comments. Accordingly, we recommend that you periodically check the Docket for new material.

How Can I Read the Comments Submitted by Other People?

You may read the comments by visiting Docket Management Facility; U.S. Department of Transportation, 1200 New Jersey Avenue, SE., West Building Ground Floor, Room W12-140, Washington, DC from 9 a.m. and 5 p.m., Monday through Friday, except Federal Holidays. You may also see the comments on the Internet by taking the following steps:

(1) Go to http://www.regulations.gov.

(2) On that page, in the field marked “search,” type in the docket number provided at the top of this document.

(3) The next page will contain results for that docket number; it may help you to sort by “Date Posted: Oldest to Recent.”

(4) On the results page, click on the desired comments. You may download the comments. However, since the comments are imaged documents instead of word processing documents, the downloaded comments may not be word searchable.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dot.gov/privacy.html.

Gregory Walter,
Senior Associate Administrator for Policy and Operations.

[FR Doc. E9-26658 Filed 11-4-09; 8:45 am]

BILLING CODE 4910-59-P